NUCLEAR WASTE TECHNICAL REVIEW BOARD

Board Meeting: Technical Lessons Gained From High-Level Nuclear Waste Disposal Efforts

Pursuant to its authority under section 5051 of Public Law 100-203, Nuclear Waste Policy Amendments Act of 1987, the U.S. Nuclear Waste Technical Review Board will meet in Dulles, Virginia, on October 26, 2010, to discuss technical aspects of the U.S. Department of Energy's (DOE) activities over the last 20 years related to managing and disposing of spent nuclear fuel and high-level radioactive waste. The Board will consider technical lessons that can be gained from those experiences that may be useful in informing future waste management and disposal efforts.

Former managers, contractors, and scientists associated with the Yucca Mountain program have been invited to discuss their experiences at the meeting. The Board also has invited representatives from affected units of governments in Nevada to provide their perspectives on technical oversight, and representatives from several countries with nuclear waste programs have been invited to discuss their own programs and their views of the U.S. experience to date.

The Board meeting will be held at the Marriott Washington Dulles Airport, 45020 Aviation Drive, Dulles, VA 20166; (tel.) 703-471-9500, (fax) 703-661-8714. A block of rooms has been reserved at the hotel for meeting attendees. To ensure receiving the meeting rate, reservations must be made by October 6, 2010. For directions to the hotel or to make reservations, go to http://www.marriott.com/hotels/travel/iadap?groupCode=nucnuca&app=resvi or call 800-228-9290.

A detailed meeting agenda will be available on the Board's Web site at http://www.nwtrb.gov approximately one week before the meeting. The agenda also may be obtained by telephone request at that time. The meeting will be open to the public, and opportunities for public comment will be provided.

The meeting will begin at 8:30 a.m. on Tuesday morning. Time has been set aside at the end of the day for public comments. Those wanting to speak are encouraged to sign the “Public Comment Register” at the check-in table. A time limit may have to be set on individual remarks, but written comments of any length may be submitted for the record.

Transcripts of the meeting will be available on the Board's Web site, by e-mail, on computer disk, and on library-loan in paper format from Davonya Barnes of the Board's staff no later than November 22, 2010.

The Board was established as an independent Federal agency to provide objective expert advice to Congress and the Secretary of Energy on technical issues and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site: http://www.nwtrb.gov.

For information on the meeting agenda, contact Karyn Severson. For information on lodging or logistics, contact Linda Coultry; 2300 Clarendon Boulevard, Suite 1300; Arlington, VA 22201-3367; (tel) 703-235-4473; (fax) 703-235-4495.

Dated: September 28, 2010.
Nigel Mote,
Executive Director, U.S. Nuclear Waste Technical Review Board.

[FR Doc. 2010-24771 Filed 10-1-10; 8:45 am]

BILLING CODE 6820-AM-M